NATIONAL ARCHIVES AND RECORDS ADMINISTRATION

36 CFR Part 1228

RIN 3095-AB02

Records Disposition

AGENCY: National Archives and Records Administration (NARA).

ACTION: Proposed rule.

SUMMARY: NARA is proposing to change the records management regulations in Subchapter B to simplify certain records disposition procedures. The current rule addresses only hard copy distribution of agency records disposition manuals. This proposed rule reflects agencies' use of the Internet and Intranets to distribute copies of agency records manuals that include the disposition authorities approved by NARA. The proposed rule also eliminates the requirement that agencies request authority for a retention period that differs from the General Records Schedules if NARA previously has granted a disposition authority specifically to an agency. This proposed rule will affect Federal agencies, and we urge agencies to provide comments on the proposal.

DATES: Comments are due by September 17, 2001.

ADDRESSES: Comments must be sent to Regulation Comment Desk (NPOL), Room 4100, Policy and Communications Staff, National Archives and Records Administration, 8601 Adelphi Road, College Park, MD 20740-6001. They may be faxed to 301-713-7270. You may also comment via the Internet to comments@nara.gov. Please submit Internet comments as an ASCII file avoiding the use of special characters and any form of encryption. Please also include “Attn: 3095-AB02” and your name and return address in your Internet message. If you do not receive notification that we have received your Internet message, contact the Regulation Comment Desk at 301-713-7360, ext. 226.

FOR FURTHER INFORMATION CONTACT: Nancy Allard at telephone number 301-713-7360 or fax number 301-713-7270.

SUPPLEMENTARY INFORMATION: NARA requires agencies to provide copies of records manuals that contain records disposition authorities approved by NARA for distribution to NARA appraisal staff and records centers. The records centers need to have current instructions for scheduling the records sent for storage by Federal agencies. This proposed rule would permit agencies to provide copies of their records disposition manuals to NARA electronically, instead of submitting 20 printed copies as is now required.

Currently, agencies that wish to retain records for a different period of time than specified in the General Records Schedules must request NARA approval, unless an agency received NARA approval for a shorter retention period prior to the issuance of the GRS. This means that if an agency wishes to retain records longer than provided in the GRS, it must submit an SF 115, Request for Records Disposition Authority, to NARA for approval even if NARA approved the longer retention period prior to issuance of the GRS item. This proposed rule would permit agencies to apply either the retention period in the GRS or the retention period previously approved for that agency's records. This change reduces the scheduling burden by eliminating the need for agencies to submit SF 115s when they have already scheduled a records series. Agencies must notify NARA if they will continue to use the agency schedule instead of the GRS.

This proposed rule is a significant regulatory action for the purposes of Executive Order 12866 and has been reviewed by the Office of Management and Budget. As required by the Regulatory Flexibility Act, I certify that this proposed rule will not have a significant impact on a substantial number of small entities because it applies only to Federal agencies. This proposed rule has no federalism or tribalism implications.

List of Subjects in 36 CFR Part 1228

Archives and records, Federal buildings and facilities, Incorporation by reference.

For the reasons set forth in the preamble, NARA proposes to amend Part 1228 of Title 36 of the CFR as follows:

PART 1228—DISPOSITION OF FEDERAL RECORDS

1. The authority citation for part 1228 continues to read as follows:

Authority: 44 U.S.C. chs. 21, 29, and 33.

2. Revise § 1228.40 to read as follows:

§ 1228.40 Authority.

The Archivist of the United States issues schedules authorizing disposal, after specified periods of time, of temporary records common to several or all agencies of the U.S. Government. General Records Schedules authorize the destruction of records after the stated retention period expires. Application of the disposition instructions in these schedules is mandatory (44 U.S.C. 3303a), provided an agency has not already received disposition authority from NARA.

3. Amend § 1228.42 by redesignating paragraph (c) as paragraph (d); revising paragraphs (a) and (b); and adding new paragraph (c) to read as follows:

§ 1228.42 Applicability.

(a) Agencies must apply GRS authorizations except as provided in paragraphs (b) or (c) of this section. Agencies must not include on SFs 115 records covered by the GRS unless a different retention period is requested, as specified in paragraph (c) of this section.

(b) Agencies may apply either the disposition instructions in the GRS or the disposition instructions previously approved by NARA in an agency schedule for the same series or system of records, unless NARA indicates that the GRS standard must be applied without exception. The authority chosen by the agency must be applied on an agency-wide basis. The agency must notify NARA if it intends to continue using the agency schedule.

(c) Except as provided in paragraph (b) of this section, agencies that wish a different retention period must request an exception to the GRS by submitting an SF 115 in accordance with § 1228.30 accompanied by a written justification for the different retention period.

* * * * *

4. Amend § 1228.50 by revising paragraph (a)(4) to read as follows:

§ 1228.50 Application of schedules.

* * * * *

(a) * * *

(4) Agencies must submit to the National Archives and Records Administration (NWML) copies of published records schedules and all directives and other issuances relating to records disposition, within 30 days of implementation or internal dissemination.

(i) Agencies that print these materials for internal distribution must forward to NARA (NWML) three copies of each final directive or other issuance relating to records disposition and 20 copies of all published records schedules (printed agency manuals) and changes to all manuals as they are issued.

(ii) Agencies that make these materials available via the Internet or internally on an Intranet web site or by other electronic means must submit one printed or electronic copy to NARA in a format specified by NARA when the directive or manual is posted or distributed. If the document is posted on the Internet, the agency must also provide the Internet address (URL).

* * * * *

Dated: July 6, 2001.
John W. Carlin,
Archivist of the United States.

[FR Doc. 01-17791 Filed 7-16-01; 8:45 am]

BILLING CODE 7515-01-U